DEPARTMENT OF DEFENSE

Department of the Navy

[Docket ID: USN-2021-HQ-0011]

Submission for OMB Review; Comment Request

AGENCY: Department of the Navy, Department of Defense (DoD).

ACTION: 30-Day information collection notice.

SUMMARY: The Department of Defense has submitted to OMB for clearance the following proposal for collection of information under the provisions of the Paperwork Reduction Act.

DATES: Consideration will be given to all comments received by June 30, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Naval Academy Information Program Blue and Gold Officer Application; USNA Form 1531/1; OMB Control Number 0703-BGOA.

Type of Request: Existing collection in use without an OMB Control Number.

Number of Respondents: 250.

Responses per Respondent: 1.

Annual Responses: 250.

Average Burden per Response: 20 minutes.

Annual Burden Hours: 83.33

Needs and Uses: This information requirement is needed to determine the eligibility and leadership potential of respondents applying to represent the United States Naval Academy (USNA) as volunteer Blue and Gold Officers. Prior military service, current and past military performance, and prior affiliation with the USNA has been found to be an excellent predictor of success as a Blue and Gold Officer. Without this information, the ability for the USNA to recruit qualified Blue and Gold Officers would be impacted and would negatively affect the Naval Academy's ability to recruit qualified candidates.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: May 24, 2022.
Aaron T. Siegel,
Alternate OSD Federal Register Liaison Officer, Department of Defense.

[FR Doc. 2022-11525 Filed 5-27-22; 8:45 am]

BILLING CODE 5001-06-P